SMALL BUSINESS ADMINISTRATION

Advisory Committee on Veterans Business Affairs; Public Meeting

The U.S. Small Business Administration (SBA), pursuant to the Veterans Entrepreneurship and Small Business Development Act of 1999 (Pub. L. 106-50), SBA Advisory Committee on Veterans Business Affairs will host a public meeting on September 12-13, 2006, starting at 9 a.m. until 5p.m. The meeting will take place at the U.S. Small Business Administration, 409 3rd Street, SW., Washington, DC 20416, Office of Advocacy's Conference Room, located on the 7th Floor.

The purpose of this meeting is to focus on finalizing the annual report to the President and Congress.

Anyone wishing to attend must contact Cheryl Clark, Program Liaison, in the Office of Veterans Business Development, at (202) 205-6773, or e-mail Cheryl.Clark@sba.gov.

Thomas M. Dryer,
Acting Committee Management Officer.

[FR Doc. E6-12930 Filed 8-8-06; 8:45 am]

BILLING CODE 8025-01-P